DEPARTMENT OF LABOR

Employment and Training Administration

[TA-W-81,314]

Northwest Hardwoods, Inc., Including On-Site Leased Workers of Manpower, Tacoma, WA; Notice of Affirmative Determination Regarding Application for Reconsideration

By application dated May 9, 2012, a representative of the Washington State Labor Council, Olympia, Washington, requested administrative reconsideration of the negative determination regarding workers' eligibility to apply for Trade Adjustment Assistance (TAA) applicable to workers and former workers of Northwest Hardwoods, Inc., Tacoma, Washington (subject firm). The determination was issued on May 4, 2012. The subject firm produces alder lumber.

The initial investigation resulted in a negative determination based on the findings that there was no shift in production and there were no imports of like or directly competitive articles by the subject firm or customers. The initial investigation also revealed that the subject firm is not a supplier to, or act as a downstream producer for, an eligible firm that employed a worker group eligible to apply for TAA.

The representative of the Washington State Labor Council requests that the Department look into further detail whether or not the subject firm is a supplier to a TAA-certified firm (Kimberly Clark; TA-W-81,097). Specifically, the representative stated that the subject firm supplied component parts, chips and hog fuel (bark and unusable contaminated chips), to Kimberly Clark.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 26th day of June, 2012.
Del Min Amy Chen,
Certifying Officer, Office of Trade Adjustment Assistance.

[FR Doc. 2012-16737 Filed 7-9-12; 8:45 am]

BILLING CODE 4510-FN-P